DEPARTMENT OF COMMERCE

National Oceanic and Atmospheric Administration

[RTID 0648-XB633]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-and-a-half-day hybrid (in-person/virtual) meeting of its Reef Fish Advisory Panel (AP).

DATES: The meeting will take place Wednesday, January 5, 2022, from 9 a.m. to 5:30 p.m. and Thursday, January 6, 2022, from 9 a.m. to 12 p.m., EST.

ADDRESSES: The in-person meeting will take place at the Gulf Council office. If you do not wish to travel, you may attend via webinar. Registration information will be available on the Council's website by visiting www.gulfcouncil.org and clicking on the SSC meeting on the calendar.

Council address: Gulf of Mexico Fishery Management Council, 4107 W. Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Wednesday, January 5, 2022; 9 a.m.-5:30 p.m., EST

The meeting will begin with Introductions of Members and Adoption of Agenda, Election of New Chair and Vice Chair, Approval of Minutes and Meeting Summary from the February 24, 2021 webinar meeting, review of Scope of Work and Reef Fish and IFQ Program Landings.

The AP will review and discuss SEDAR 72: Gulf of Mexico Gag Grouper Stock Assessment, SEDAR 68: Gulf of Mexico Scamp Stock Assessment, and SEDAR 70: Gulf of Mexico Greater Amberjack Projections; including presentations, projections and SSC Recommendations for Overfishing Limits (OFL) and Acceptable Biological Catch (ABC), Something's Fishy, AP Recommendations, Stock Assessment Reports, Stock Assessment Executive Summaries, and SSC Meeting Summaries.

The AP will review Draft Snapper Grouper Amendment 44/Reef Fish Amendment 55: Modifications to the Southeastern U.S. Yellowtail Snapper Catch Limits, Jurisdictional Allocation, South Atlantic Sector Allocation, and South Atlantic Commercial Management Measures, including a presentation, document and AP Recommendations.

The AP will hold a discussion on Southeast For-Hire Integrated Electronic Reporting Program Proposed Rule Changes; including discussion of COLREGS, autofill reporting, the Data Collection AP Summary Report for September 2021, October 2021 Council Data Collection Committee Report and AP Recommendations. Next the AP will discuss the Framework Action: Modification to Location Reporting Requirements for For-Hire Vessels; including Data Collection AP Summary Report for September 2021, October 2021 Council Data Collection Committee Report and AP Recommendations.

Thursday, January 6, 2022; 9 a.m.-12 p.m., EST

The AP will review the Draft Framework Action: Modifications to Vermilion Snapper Overfishing Limit, Acceptable Biological Catch and Annual Catch Limits. The AP will then review Updates to the Commercial Electronic Logbook Program.

Lastly, the AP will receive Public Comment and discuss any Other Business items, including the retention of reef fish by captain and crew.

—Meeting Adjourns

The meeting will be also be broadcast via webinar. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: December 8, 2021.
Tracey L. Thompson,
Acting Deputy Director, Office of Sustainable Fisheries, National Marine Fisheries Service.

[FR Doc. 2021-27463 Filed 12-17-21; 8:45 am]

BILLING CODE 3510-22-P